SOCIAL SECURITY ADMINISTRATION

Notice of Senior Executive Service Performance Review Board Membership

Title 5, U.S. Code, section 4314(c)(4) of the Civil Service Reform Act of 1978, Public Law 95-454, requires that the appointment of Performance Review Board members be published in the Federal Register.

The following persons will serve on the Performance Review Board which oversees the evaluation of performance appraisals of Senior Executive Service members of the Social Security Administration.

Nancy Berryhill*, Nicholas M. Blatchford, Michael G. Gallagher, Rogelio Gomez, Myrtle S. Habersham, Nancy A. McCullough, Gregory Pace*, Ronald Raborg*, Donna Siegel*, Felicita Sola-Carter, Thomas J. Tobin, Manuel Vaz, and Alice H. Wade.

* New Member

Dated: July 28, 2005.
Reginald F. Wells,
Deputy Commissioner for Human Resources.

[FR Doc. 05-15499 Filed 8-4-05; 8:45 am]

BILLING CODE 4191-02-P